DEPARTMENT OF TRANSPORTATION

Federal Aviation Administration

14 CFR Part 39

[Docket No. FAA-2016-9066; Directorate Identifier 2014-NM-113-AD; Amendment 39-18800; AD 2017-04-05]

RIN 2120-AA64

Airworthiness Directives; Airbus Airplanes

AGENCY: Federal Aviation Administration (FAA), Department of Transportation (DOT).

ACTION: Final rule.

SUMMARY: We are superseding Airworthiness Directive (AD) 2011-10-17 for all Airbus Model A300 and A310 series airplanes, and Model A300 B4-600, B4-600R, and F4-600R series airplanes, and Model C4-605R Variant F airplanes (collectively called A300-600 series airplanes). AD 2011-10-17 required revising the maintenance program by incorporating certain airworthiness limitation items (ALIs). This AD requires revising the maintenance or inspection program, as applicable, to incorporate new or revised structural inspection requirements. This AD also removes Model A310 and A300-600 series airplanes from the applicability. This AD was prompted by a revision of certain ALI documents, which specify more restrictive instructions and/or airworthiness limitations. We are issuing this AD to address the unsafe condition on these products.

DATES: This AD is effective March 28, 2017.

The Director of the Federal Register approved the incorporation by reference of a certain publication listed in this AD as of March 28, 2017.

The Director of the Federal Register approved the incorporation by reference of a certain other publication listed in this AD as of June 17, 2011 (76 FR 27875, May 13, 2011).

ADDRESSES: For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-9066.

Examining the AD Docket

You may examine the AD docket on the Internet at http://www.regulations.gov by searching for and locating Docket No. FAA-2016-9066; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to supersede AD 2011-10-17, Amendment 39-16698 (76 FR 27875, May 13, 2011) (“AD 2011-10-17”). AD 2011-10-17 applied to all Airbus Model A300 and A310 series airplanes, and Model A300 B4-600, B4-600R, and F4-600R series airplanes, and Model A300 C4-605R Variant F airplanes (collectively called Model A300-600 series airplanes). The NPRM published in the Federal Register on September 12, 2016 (81 FR 62679). The NPRM was prompted by a revision of certain ALI documents, which specify more restrictive instructions and/or airworthiness limitations. The NPRM proposed to require revising the maintenance or inspection program, as applicable, to incorporate new or revised structural inspection requirements. The NPRM also proposed to remove Model A310 and A300-600 series airplanes from the applicability. We are issuing this AD to detect and correct fatigue cracking, damage, and corrosion in certain structure; such fatigue cracking, damage, and corrosion could result in reduced structural integrity of the airplane.

The European Aviation Safety Agency (EASA), which is the Technical Agent for the Member States of the European Union, has issued Airworthiness Directive 2015-0115, dated June 23, 2015 (referred to after this as the Mandatory Continuing Airworthiness Information, or “the MCAI”) to correct an unsafe condition. The MCAI states:

The airworthiness limitations applicable to the Damage Tolerant Airworthiness Limitation Items (DT ALIs) are currently listed in the Airbus Airworthiness Limitations Sections [ALS] Part 2.

Airbus recently revised the A300 ALS Part 2 and this Revision 02 was approved by EASA. Airbus A300 ALS Part 2 Revision 02 introduces more restrictive maintenance requirements and airworthiness limitations, which have been identified as mandatory actions for continued airworthiness.

EASA issued AD 2014-0124 to require compliance with the maintenance requirements and associated airworthiness limitations defined in Airbus A300 ALS Part 2 Revision 01.

For the reasons described above, this [EASA] AD retains the requirements of EASA AD 2014-0124 for A300 aeroplanes and requires implementation of new or more restrictive maintenance instructions and/or airworthiness limitations as specified in Airbus A300 ALS Part 2 Revision 02.

The requirements for A310 and A300-600 aeroplanes remain unchanged and are covered by EASA AD 2014-0124R1 [FAA AD 2013-13-13, Amendment 39-17501 (79 FR 48957, August 19, 2014), contains the corresponding requirements for the Model A300-600 and A310 series airplanes].

The unsafe condition is fatigue cracking, damage, or corrosion in certain structure (principal structural elements), which could result in reduced structural integrity of the airplane. You may examine the MCAI in the AD docket on the Internet at http://www.regulations.gov by searching for and locating Docket No. FAA-2016-9066.

Comments

We gave the public the opportunity to participate in developing this AD. The following presents the comment received on the NPRM and the FAA's response to the comment.

Request To Revise MCAI Reference

Airbus requested that we reference the correct MCAI in paragraph (k) of the proposed AD, which is EASA Airworthiness Directive 2015-0115, dated June 23, 2015.

We agree with the commenter's request. We have confirmed that EASA Airworthiness Directive 2015-0115, dated June 23, 2015, is the MCAI that should be referenced in this AD. We have revised this AD accordingly.

Conclusion

We reviewed the available data, including the comment received, and determined that air safety and the public interest require adopting this AD with the change described previously and minor editorial changes. We have determined that these changes:

• Are consistent with the intent that was proposed in the NPRM for correcting the unsafe condition; and

• Do not add any additional burden upon the public than was already proposed in the NPRM.

Related Service Information Under 1 CFR Part 51

Airbus has issued Airbus A300 Airworthiness Limitations Section, Part 2—Damage-Tolerant Airworthiness Limitation Items (DT ALIs), Revision 02, dated October 3, 2014. This service information describes airworthiness limitations applicable to the DT ALIs.

This service information is reasonably available because the interested parties have access to it through their normal course of business or by the means identified in the ADDRESSES section.

Costs of Compliance

We estimate that this AD affects 11 airplanes of U.S. registry.

The actions required by AD 2011-10-17 and retained in this AD take about 1 work-hour per product, at an average labor rate of $85 per work-hour. Based on these figures, the estimated cost of the actions that were required by AD 2011-10-17 is $85 per product.

We also estimate that it would take about 1 work-hour per product to comply with the basic requirements of this AD. The average labor rate is $85 per work-hour. Based on these figures, we estimate the cost of this AD on U.S. operators to be $935, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-10-17, Amendment 39-16698 (76 FR 27875, May 13, 2011), and adding the following new AD:

2017-04-05 Airbus: Amendment 39-18800; Docket No. FAA-2016-9066; Directorate Identifier 2014-NM-113-AD.

(a) Effective Date

This AD is effective March 28, 2017.

(b) Affected ADs

This AD replaces AD 2011-10-17, Amendment 39-16698 (76 FR 27875, May 13, 2011) (“AD 2011-10-17”).

(c) Applicability

This AD applies to all Airbus Model A300 B2-1A, B2-1C, B4-2C, B2K-3C, B4-103, B2-203, and B4-203 airplanes, certificated in any category.

(d) Subject

Air Transport Association (ATA) of America Codes 52, Doors; 53, Fuselage; 54, Nacelles/pylons; 55, Stabilizers; and 57, Wings.

(e) Reason

This AD was prompted by a revision of certain airworthiness limitations item (ALI) documents, which specify more restrictive instructions and/or airworthiness limitations. We are issuing this AD to detect and correct fatigue cracking, damage, and corrosion in certain structure; such fatigue cracking, damage, and corrosion could result in reduced structural integrity of the airplane.

(f) Compliance

Comply with this AD within the compliance times specified, unless already done.

(g) Retained Revision of the Maintenance Program, With Changes

This paragraph restates the requirements of paragraph (s) of AD 2011-10-17, with changes. Within 3 months after June 17, 2011 (the effective date of AD 2011-10-17): Revise the maintenance program to incorporate the structural inspections and inspection intervals defined in the Airbus A300 ALI Document AI/SE-M2/95A.1308/07, Issue 4, dated June 2008. Thereafter, except as required by paragraph (h) of this AD and except as provided by paragraph (j)(1) of this AD, no alternative structural inspections or inspection intervals may be approved. The initial ALI tasks must be done at the times specified in Airbus A300 ALI Document AI/SE-M2/95A.1308/07, Issue 4, dated June 2008.

(h) New Requirement of This AD: Maintenance or Inspection Program Revision

Within 3 months the effective date of this AD: Revise the maintenance program or inspection program, as applicable, to incorporate the structural inspections and inspection intervals defined in Airbus A300 Airworthiness Limitations Section (ALS), Part 2—Damage-Tolerant Airworthiness Limitation Items, Revision 02, dated October 3, 2014. The initial compliance times for the ALI tasks identified in Airbus A300 ALS, Part 2—Damage-Tolerant Airworthiness Limitation Items, Revision 02, dated October 3, 2014, are at the applicable times specified in Airbus A300 ALS, Part 2—Damage-Tolerant Airworthiness Limitation Items, Revision 02, dated October 3, 2014, or within 3 months after the effective date of this AD, whichever occurs later. Accomplishing the applicable initial ALI tasks constitutes terminating action for the requirements of paragraphs (g) of this AD for that airplane only.

(i) No Alternative Actions or Intervals

After the maintenance or inspection program has been revised as required by paragraph (h) of this AD, no alternative actions (e.g., inspections) or intervals may be used unless the actions or intervals are approved as an alternative method of compliance (AMOC) in accordance with the procedures specified in paragraph (j)(1) of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2011-10-17 are approved as AMOCs for the corresponding provisions of this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(k) Related Information

Refer to Mandatory Continuing Airworthiness Information (MCAI) EASA Airworthiness Directive 2015-0115, dated June 23, 2015, for related information. This MCAI may be found in the AD docket on the Internet at http://www.regulations.gov by searching for and locating Docket No. FAA-2016-9066.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 28, 2017.

(i) Airbus A300 Airworthiness Limitations Section, Part 2—Damage-Tolerant Airworthiness Limitation Items, Revision 02, dated October 3, 2014.

(ii) Reserved.

(4) The following service information was approved for IBR on June 17, 2011 (76 FR 27875, May 13, 2011).

(i) Airbus A300 Airworthiness Limitations Inspections Document AI/SE-M2/95A.1308/07, Issue 4, dated June 2008.

(ii) Reserved.

(5) For service information identified in this AD, contact Airbus SAS, Airworthiness Office- EAW, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on January 24, 2017.
Dionne Palermo,
Acting Manager,Transport Airplane Directorate, Aircraft Certification Service.

[FR Doc. 2017-03021 Filed 2-17-17; 8:45 am]

BILLING CODE 4910-13-P